DEPARTMENT OF COMMERCE

Foreign-Trade Zones Board

[B-70-2016]

Foreign-Trade Zone 80—San Antonio, Texas, Application for Subzone, CGT U.S. Limited, New Braunfels, Texas

An application has been submitted to the Foreign-Trade Zones (FTZ) Board by the City of San Antonio, grantee of FTZ 80, requesting subzone status for the facility of CGT U.S. Limited located in New Braunfels, Texas. The application was submitted pursuant to the provisions of the Foreign-Trade Zones Act, as amended (19 U.S.C. 81a-81u), and the regulations of the FTZ Board (15 CFR part 400). It was formally docketed on October 20, 2016.

The proposed subzone (27.78 acres) is located at 2827 FM 1101 in New Braunfels. A notification of proposed production activity has been submitted and will be published separately for public comment.

In accordance with the FTZ Board's regulations, Camille Evans of the FTZ Staff is designated examiner to review the application and make recommendations to the FTZ Board.

Public comment is invited from interested parties. Submissions shall be addressed to the FTZ Board's Executive Secretary at the address below. The closing period for their receipt is December 6, 2016. Rebuttal comments in response to material submitted during the foregoing period may be submitted during the subsequent 15-day period to December 21, 2016.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Camille Evans at Camille.Evans@trade.gov or (202) 482-2350.

Dated: October 21, 2016.
Andrew McGilvray,
Executive Secretary.

[FR Doc. 2016-26025 Filed 10-26-16; 8:45 am]

BILLING CODE 3510-DS-P